DEPARTMENT OF STATE

[Public Notice 3528]

Culturally Significant Objects Imported for Exhibition; Determinations: “Rediscovering Caesarea Philippi, the Ancient City of Pan (Also referred to as the Banias Exhibition”

DEPARTMENT: Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority No. 236 of October 19, 1999, as amended, I hereby determine that the objects to be included in the exhibition “Rediscovering Caesarea Philippi, the Ancient City of Pan (also referred to as the Banias Exhibition),” imported from abroad for the temporary exhibition without profit within the United States, are of cultural significance. The objects are imported pursuant to a loan agreement with the foreign lender. I also determine that the exhibition or display of the exhibit objects at the Frederick R. Weisman Museum of Art at Pepperdine University, in Malibu, CA from on or about February 10, 2001 to on or about May 5, 2001 is in the national interest. The action of the United States in this matter and the immunity based on the application of the provisions of the law involved does not imply any view of the United States concerning the ownership of these exhibition objects. Further, it is not based upon and does not represent any change in the position of the United States regarding land occupied by Israel since 1967. See letter of September 22, 1978, of President Jimmy Carter, attached to the Camp David Accords, reprinted in 78 Dept. State Bulletin 11 (October 1978); Statement of September 1, 1982 of President Ronald Reagan, reprinted in 82 Dept. of State Bulletin 23 (September 1982). Public Notice of these Determinations is ordered to be published in the Federal Register.

FOR FURTHER INFORMATION CONTACT: For further information, including a list of the exhibit objects, contact Carol Epstein, Attorney-Adviser, Office of the Legal Adviser, U.S. Department of State (telephone: 202/619-6981). The address is U.S. Department of State, SA-44, 301 4th Street, SW., Room 700, Washington, DC 20547-0001.

Dated: December 15, 2000.
William B. Bader,
Assistant Secretary for Educational and Cultural Affairs, Department of State.

[FR Doc. 00-32870 Filed 12-22-00; 8:45 am]

BILLING CODE 4710-08-P